DEPARTMENT OF COMMERCE

International Trade Administration

[A-570-862]

Notice of Amended Final Determination of Sales at Less Than Fair Value: Foundry Coke From the People's Republic of China

AGENCY: Import Administration, International Trade Administration, Department of Commerce.

ACTION: Amended Final Determination of Antidumping Duty Investigation.

EFFECTIVE DATE: August 31, 2001.

FOR FURTHER INFORMATION CONTACT: Doreen Chen, Alex Villanueva, Marlene Hewitt or James Doyle, AD/CVD Enforcement Group III, Office 9, Import Administration, International Trade Administration, U.S. Department of Commerce, 14th Street and Constitution Avenue, NW., Washington, DC 20230; telephone: (202) 482-0193, (202) 482-6412, (202) 482-1385 or (202) 482-0159, respectively.

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations codified at 19 CFR part 351 (2000).

Scope of the Investigation

For purposes of this investigation, the product covered is coke larger than 100 mm (4 inches) in maximum diameter and at least 50 percent of which is retained on a 100-mm (4 inch) sieve, of a kind used in foundries.

The foundry coke products subject to this investigation were classifiable under subheading 2704.00.00.10 (as of Jan 1, 2000) and are currently classifiable under subheading 2704.00.00.11 (as of July 1, 2000) of the Harmonized Tariff Schedule of the United States (“HTSUS”). Although the HTSUS subheadings are provided for convenience and Customs purposes, our written description of the scope of this investigation is dispositive.

Amendment to the Final Determination

On July 23, 2001, the Department determined that foundry coke from the People's Republic of China (“PRC”) is being, or is likely to be, sold in the United States at less than fair value (“LTFV”), as provided in section 735(a) of the Tariff Act. See Notice of Final Determination of Sales at Less Than Fair Value: Foundry Coke from the People's Republic of China, 66 FR 39487 (July 31, 2001).

On July 30, 2001, respondents, CITIC Trading Co., Ltd. (“CITIC”), Shanxi Dajin International (Group) Co., Ltd. (“Dajin”), Minmetals Townlord Technology Co. (“Minmetals”), and Sinochem International Co., Ltd. (“Sinochem”) timely filed an allegation that the Department made ministerial errors in the final determination. On August 6, 2001, petitioners, ABC Coke, Citizens Gas and Coke Utility, Erie Coke Corporation, Sloss Industries Corporation, and Tonawanda Coke Corporation, timely filed comments in rebuttal to respondents' alleged errors.

Comment 1: Respondents collectively argue that the Department verified, and the respondents correctly reported, the freight distance from the factory to the port. Respondents argue that it is clear that the rail schedule submitted by respondents (See Respondents' May 1, 2001 Submission at Exhibit 6) established the rail rates for specific distances on a per metric ton basis, not on a per metric ton per kilometer basis, as the Department has used to calculate margins for all respondents. Respondents conclude that the Department erred, by first, using an incorrect transportation distance to select the appropriate rail rate, notwithstanding the fact that the rail schedule from the Indian Railway Conference Association contains specific rates for different ranges of transportation distances; and, second, by multiplying the incorrectly selected rail rate by the distances of the transport. Respondents allege that the Department's current methodology grossly overstates the freight by the factor of the distance used and should be corrected to reach an accurate margin calculation for each of the respondents. Respondents argue that the Department should revise its normal value programs to reflect the correct freight by basing its calculation on the Indian Railway Conference Association rate schedule for the appropriate (and accurate) supplier distance that was submitted and verified as part of the record.

Respondents claim that in the normal value programs, the Department universally used a freight distance of 741-750 kilometers to calculate freight for the transport of coking coal from the suppliers to the producers. Respondents argue that the Department should revise its normal value programs to reflect the correct freight using the rail schedule from the Indian Railway Conference Association.

Petitioners assert that the Department correctly calculated freight rates and achieved the correct result because the Department applied the rate on a per kilometer basis.

Department's Position: We agree with petitioners in part and respondents in part. The rail schedule does establish rail rates for specific distance ranges on a per metric ton basis. In the rail freight calculation, the Department used the rail rate that corresponded to the distance from the coke manufacturer to the nearest port. The Department did not use the rate corresponding to the distance between the suppliers of coal and the producer. Because the distance range used by the Department is greater, the corresponding rate per ton is also greater. However, the Department divided the rate by the largest number of kilometers in the distance range used.

We agree with respondents that we should have used the rail rates per ton that corresponded to the distance between the suppliers of coal and the producer. We have revised the margin calculation program using the appropriate rail rate, and divided it by the correct number of kilometers. We have also corrected another clerical error that relates to the calculation for rail freight in CITIC's and Sinochem's margin program.

We disagree with respondents' claim that multiplying the average freight rate per ton per kilometer by the kilometer transport distance applicable to the suppliers of coal to the producer represents a ministerial error because respondents are in effect requesting the Department to alter its calculation formula, which is clearly a substantive matter, not a ministerial error issue. As the Department may only make corrections to ministerial errors at this point in the proceeding, we did not make the requested change.

Respondents are incorrect that we used a rate based on 741-750 kilometers. The surrogate value exhibit for freight misidentified the rail rate used in the final determination. The exhibit indicates that the rate is based on the rate for 741-750 kilometers; however, the rail rate used in the freight calculation was based on the rate for the distance from the factory to the port.

We also note that contrary to respondents' assertions, this issue regarding rail rates does not apply to all respondents as Dajin and Minmetals did not report rail as the means of transport for any of their inputs.

Comment 2: CITIC, Minmetals and Sinochem argue that the Department continued to use the same freight distance that was used in the preliminary determination to calculate domestic inland freight. They argue that the Department should correct the margin calculation program and use the correct freight distance that was verified on March 19, 2001. Petitioners did not comment on this issue.

Department's Position: We agree with CITIC, Minmetals and Sinochem. We have revised the margin calculation program for CITIC to calculate domestic inland freight based on the correct freight distance.

Dajin

Comment 3: Dajin argues that the Department's final determination used the highest normal value calculated in the preliminary determination as the adverse facts available rate for those producers identified as “missing suppliers.” Dajin argues that the Department should use the highest calculated normal value from the amended final determination for those suppliers identified as “missing suppliers.”

Petitioners disagree with Dajin's assertion that the Department should use the highest final calculated normal value as adverse facts available for “missing suppliers.” Petitioners argue that the Department should continue to use the adverse facts available rate used in the final determination, but calculated at the preliminary determination, for the “missing suppliers” because the application of the highest final calculated normal value may permit non-responding suppliers to benefit from lack of cooperation in this investigation.

Department's Position: We agree with Dajin and have applied as adverse facts available, the highest normal value calculated in the amended final determination. We have revised the margin calculation to reflect this correction.

Comment 4: Dajin argues that the Department used the incorrect gross unit price for the sales reported by Dajin. Dajin argues that the Department should correct the margin calculation for Dajin to reflect the correct U.S. prices that were verified. Petitioners had no comment regarding this issue.

Department's Position: We disagree with Dajin. Dajin's allegation rests on our not using all of its originally reported figures for gross unit price. However, some of these gross unit prices were found to be inaccurate based on our findings at verification. Therefore, as explained in the Analysis Memorandum, we modified gross unit price for certain sales based on the results of verification. Analysis for the Final Determination of Foundry Coke from the People's Republic of China: Shanxi Dajin International (Group) Company (July 23, 2001) at pp. 2-3. For other sale(s), we used the originally reported gross unit price found to be accurate as a result of verification. Therefore, we will not make the changes to gross unit price as urged by respondents.

Sinochem

Comment 5: Sinochem argues that it believes that the Department used an incorrect distance to calculate the surrogate value for rail, and has applied a unit cost for rail transport for Sinochem's supplier which is different from that found in the normal value program. Sinochem states that the Department should correct the margin program for Sinochem to reflect the correct unit value for rail transport for Sinochem's supplier. Petitioners argue that the Department used the correct unit value that it calculated based on the Department's calculation for each kilometer as the average railway freight rate in the normal value program.

Department's Position: We agree with petitioners and disagree with Sinochem. We released an inaccurate draft calculation sheet for freight. We have corrected the calculation sheet and will release it to all parties. We note that there was no change to the final margin resulting from this issue because the correct number was used in the final calculation.

Comment 6: Sinochem argues that the Department, in its cost calculation for Sinochem's supplier, used an incorrect value as the unit cost of igniting coal. Sinochem states that the Department has revised the coal input value for purposes of the final determination and should use this new value in the margin program to reflect the correct unit cost for igniting coal for Sinochem's supplier. Petitioners had no comment regarding this issue.

Department's Position: After a review of respondent's allegation, we agree with Sinochem and have corrected our margin calculation to reflect the corrected coal input value for igniting coal.

We are amending the final determination of the antidumping duty investigation of Foundry Coke from the PRC to reflect the correction of the above-cited ministerial errors. The revised final weighted-average dumping margins are as follows:

Exporter/manufacturer | Original weighted average margin percent | Revised weighted average margin percent
CITIC | 78.03 | 51.43
Minmetals | 76.19 | 75.58
Dajin | 109.85 | 101.62
Sinochem | 163.73 | 105.91
All Others Rate | 214.89 | 214.89

Suspension of Liquidation

In accordance with section 735(c)(1)(B) of the Act, we are directing the United States Customs Service (“Customs”) to continue suspending liquidation on all imports of the subject merchandise from the PRC. Customs shall require a cash deposit or the posting of a bond equal to the weighted-average amount by which normal value exceeds the export price as indicated in the chart above. These suspension-of-liquidation instructions will remain in effect until further notice.

ITC Notification

In accordance with section 735(d) of the Act, we have notified the International Trade Commission of our amended final determination.

This determination is issued and published in accordance with sections 735(d) and 777(i)(1) of the Act.

Dated: August 24, 2001.
Richard W. Moreland,
Acting Assistant Secretary for Import Administration.

[FR Doc. 01-21969 Filed 8-30-01; 8:45 am]

BILLING CODE 3510-DS-P